FARM CREDIT ADMINISTRATION

12 CFR Part 624

[Docket No. 2019-05012]

RIN 3052-AD34

Margin and Capital Requirements for Covered Swap Entities; Correction

AGENCY: Farm Credit Administration.

ACTION: Correcting amendment.

SUMMARY: The Farm Credit Administration (FCA or we) is correcting an interim final rule that published in the Federal Register on March 19, 2019, which we jointly issued with four other Agencies. The joint interim final rule amended the regulations governing Margin and Capital Requirements for Covered Swap Entities to address the status of certain non-cleared swaps and non-cleared security-based swaps if the United Kingdom withdraws from the European Union without a negotiated settlement.

DATES: Effective on December 16, 2019.

FOR FURTHER INFORMATION CONTACT: Jeremy R. Edelstein, Associate Director, Finance & Capital Market Team, Timothy T. Nerdahl, Senior Policy Analyst, Office of Regulatory Policy, Farm Credit Administration, 1501 Farm Credit Drive, McLean, VA 22102-5090, (703) 883-4414, TTY (703) 883-4056; or Richard A. Katz, Senior Counsel, Office of General Counsel, Farm Credit Administration, 1501 Farm Credit Drive, McLean, VA 22102-5090, (703) 883-4020, TTY (703) 883-4056.

SUPPLEMENTARY INFORMATION: In FR Doc. 2019-05012 appearing on page 9950 in the Federal Register on Tuesday, March 19, 2019, § 624.1 published with two paragraphs designated as (h)(2)(iv). The second instance of paragraph (h)(2)(iv) is being redesignated as paragraph (h)(2)(vi).

List of Subjects in 12 CFR Part 624

Accounting, Agriculture, Banks, Banking, Capital, Cooperatives, Credit, Margin requirements, Reporting and recordkeeping requirements, Risk, Rural areas, Swaps.

Accordingly, 12 CFR part 624 is corrected by making the following correcting amendment:

PART 624—MARGIN AND CAPITAL REQUIREMENTS FOR COVERED SWAP ENTITIES

1. The authority citation for part 624 continues to read as follows:

Authority: 7 U.S.C. 6s(e), 15 U.S.C. 78o-10(e), 12 U.S.C. 2154, 12 U.S.C. 2243, 12 U.S.C. 2252, and 12 U.S.C. 2279bb-1.

§ 624.1 [Amended]

2. Section 624.1 is amended by redesignating the second paragraph (h)(2)(iv) as paragraph (h)(2)(vi).

Dated: December 10, 2019.
Dale Aultman,
Secretary, Farm Credit Administration Board.

[FR Doc. 2019-26884 Filed 12-13-19; 8:45 am]

BILLING CODE 6705-01-P